ENVIRONMENTAL PROTECTION AGENCY

[ER-FRL-6696-1]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 6, 2007 (72 FR 17156).

Draft EISs

EIS No. 20070411, ERP No. D-FRC-E05103-NC, Yadkin—Yadkin-Pee Dee Hydro Electric Project (Docket Nos. P-2197-073 & P-2206-030), Issuance of New Licenses for the Existing and Proposed Hydropower Projects, Yadkin—Yadkin-Pee Dee Rivers, Davidson, Davie, Montgomery, Rowan, Stanly, Anson and Richmond Counties, NC.

Summary: EPA does not object to the proposed action. Rating LO.

EIS No. 20070508, ERP No. D-AFS-J65500-00, Wild and Scenic River Suitability Study for National Forest System Lands on the Ashley, Dixie, Fishlake, Manti-La Sal, Uinta and Wasatch-Cache National Forests in UT and Portion of National Forests extend into Colorado and Wyoming, several counties, UT, Montrose County, CO, and Uinta County, WY.

Summary: EPA has environmental concerns about potential water quality impacts and recommends that the final EIS evaluate and compare the environmental impacts by alternative, of removing interim protections from the 86 eligible stream segments. Rating EC1.

Final EISs

EIS No. 20070530, ERP No. F-COE-E39071-00, Wolf Creek Dam/Lake Cumberland Project, Emergency Measures in Response to Seepage, Mississippi River, South Central Kentucky and Central Tennessee.

Summary: EPA continues to have environmental concerns about water quantity and water quality impacts.

EIS No. 20070556, ERP No. F-NGB-E11062-MS, Camp Shelby Joint Force Training Center, Implementation of Installation Mission Support Activities, Renewal of Special Use Permit, De Soto National Forest, in portions of Forrest, George and Perry Counties, MS.

Summary: EPA's previous issues have been resolved; therefore, EPA does not object to the proposed action.

EIS No. 20070557, ERP No. F-IBW-G36112-TX, PROGRAMMATIC—Rio Grande Flood Control Projects, Proposing a Range of Alternatives for Maintenances Activities and Future Improvements, along the Texas-Mexico Border.

Summary: No formal comment letter was sent to the preparing agency.

Dated: February 12, 2008.
Robert W. Hargrove,
Director, NEPA Compliance Division, Office of Federal Activities.

[FR Doc. E8-2950 Filed 2-14-08; 8:45 am]

BILLING CODE 6560-50-P